FEDERAL COMMUNICATIONS COMMISSION

47 CFR Part 73

[DA 03-2625; MM Docket No. 00-169; RM-9953, RM-10160]

Radio Broadcasting Services; Granby and Oswego, New York

AGENCY: Federal Communications Commission.

ACTION: Final rule.

SUMMARY: This Memorandum Opinion and Order affirms action in a Report and Order 66 FR 51322 (October 9, 2001), that reallotted FM broadcast Channel 288A from Oswego, New York, to Granby, New York, thus providing Granby with its first local aural transmission service. This document dismisses as moot a petition for reconsideration of that Report and Order, filed by Clear Channel Broadcasting Licenses, Inc. (“Clear Channel”), licensee of Station WWDG(FM), DeRuyter, New York. Clear Channel's application had been considered as a counterproposal in the reallotment rulemaking proposal. The Report and Order had granted the requested reallotment after comparing its merits with those of Clear Channel's application. The application was returned to the Audio Division for further processing in order to give Clear Channel an opportunity to amend the application in such a manner that it could be granted. No such amendment was submitted. Further, the existing application was found to be defective. After giving the applicant an opportunity to correct the defect, the Commission's staff dismissed the application for failure to respond to the staff letter that had explained the defect and had allowed the applicant a period of time to correct that defect. The Memorandum Opinion and Order ruled that since the application's dismissal has become final, the petition for reconsideration has been rendered moot.

FOR FURTHER INFORMATION CONTACT: R. Barthen Gorman, Media Bureau, (202) 418-2180.

SUPPLEMENTARY INFORMATION: This is a synopsis of the Commission's Memorandum Opinion and Order in MM Docket No. 00-169, adopted September 3, 2003 and released September 5, 2003. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC, 20554, telephone 202-863-2893, facsimile 202-863-2898, or via e-mail qualexint@aol.com.

Federal Communications Commission.
John A. Karousos,
Assistant Chief, Audio Division, Media Bureau.

[FR Doc. 03-23921 Filed 9-18-03; 8:45 am]

BILLING CODE 6712-01-P